DEPARTMENT OF DEFENSE

Department of the Army, Corps of Engineers

33 CFR Part 234

[Docket ID: COE-2023-0005]

RIN 0710-AB41

Corps of Engineers Agency Specific Procedures To Implement the Principles, Requirements, and Guidelines for Federal Investments in Water Resources; Correction

AGENCY: U.S. Army Corps of Engineers, Army, Department of Defense (DoD).

ACTION: Final rule; correction.

SUMMARY: The U.S. Army Corps of Engineers (Corps) ACF is correcting a final rule (FR) that was published in the Federal Register on December 19, 2024, with an effective date of January 17, 2025. This rule establishes Agency Specific Procedures (ASPs) for the Corps to implement the Principles, Requirements, and Guidelines (PR&G) for Federal water resources investments. It provides a framework to govern how the Corps would evaluate proposed water resources investments, subject to the PR&G. The rule incorporates recommendations from interested parties. This correction ensures that this final rule will be effective 30 days after its publication on December 19, 2024, which is January 18, 2025.

DATES: This correction is effective January 17, 2025.

FOR FURTHER INFORMATION CONTACT: Mr. Milton Boyd, Acting Director for Policy and Legislation, Office of the Assistant Secretary of the Army (Civil Works), 108 Army Pentagon, Washington, DC 20310-0108, at (202) 761-8546 or milton.w.boyd.civ@army.mil.

SUPPLEMENTARY INFORMATION: In the final rule published December 19, 2024, there was one technical error that is now identified and corrected in this document. The provisions in this correction document are effective as if they had been included in the document published December 19, 2024. Accordingly, the following corrections are effective January 18, 2025.

Corrections to Regulations

In FR Doc. 2024-29652, appearing on page 103992 in the Federal Register of Thursday, December 19, 2024, the following correction is made:

1. On page 103992, in the first column, correct the DATES section to read as follows:

DATES: This rule is effective on January 18, 2025.

Jaime A. Pinkham,
Acting Assistant Secretary of the Army, Civil Works.

[FR Doc. 2025-00617 Filed 1-13-25; 8:45 am]

BILLING CODE 3720-58-P